DEPARTMENT OF COMMERCE

International Trade Administration

[A-570-954]

Certain Magnesia Carbon Bricks From the People's Republic of China: Final Results of the Antidumping Duty Administrative Review; 2016-2017

AGENCY: Enforcement and Compliance, International Trade Administration, Department of Commerce.

SUMMARY: The Department of Commerce (Commerce) is issuing a final no shipments determination in the final results of the antidumping duty administrative review on certain magnesia carbon bricks (MCBs) from the People's Republic of China (China), for the September 1, 2016 through August 31, 2017 period of review (POR).

FOR FURTHER INFORMATION CONTACT: Christian Llinas, AD/CVD Operations, Office V, Enforcement and Compliance, International Trade Administration, Department of Commerce, 1401 Constitution Avenue NW, Washington, DC 20230; telephone: (202) 482-4877.

SUPPLEMENTARY INFORMATION:

Background

On October 11, 2018, Commerce published the preliminary results of the seventh administrative review of the antidumping duty order on MCBs from China for the POR.¹ For a history of the events that occurred since the Preliminary Results, see the Issues and Decision Memorandum.² On January 28, 2019, Commerce tolled the deadlines in this case and the final results by 40 days.³ On March 5, 2019, Commerce extended the deadline for the final results to May 7, 2019.⁴

¹ See Certain Magnesia Carbon Bricks from the People's Republic of China; Preliminary Results of the Antidumping Duty Administrative Review; 2016-2017, 83 FR 51435 (October 11, 2018) (Preliminary Results) and accompanying Preliminary Decision Memorandum.

² See Memorandum, “Certain Magnesia Carbon Bricks from the People's Republic of China: Issues and Decision Memorandum for the Final Results of the 2016 Antidumping Duty Administrative Review,” which is dated concurrently with these final results and is hereby adopted by this notice (Issues and Decision Memorandum).

³ See Memorandum to the Record, from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

⁴ See “Administrative Review of the Antidumping Duty Order on Certain Magnesia Carbon Bricks from the People's Republic of China: Extension of Deadline for the Final Results,” dated March 5, 2019.

Scope of the Order

The scope of the order includes certain chemically-bonded MCBs from China.⁵

⁵ For a complete description of the scope of the order, see “Certain Magnesia Carbon Bricks from the People's Republic of China: Issues and Decision Memorandum for the Final Results of the Seventh Antidumping Duty Administrative Review: 2016-2017,” dated concurrently with and hereby adopted by this notice (Issues and Decision Memorandum).

Analysis of Comments Received

All issues raised by interested parties in their case and rebuttal briefs, and our analysis thereof, are addressed in the Issues and Decision Memorandum. The issues are identified in the Appendix to this notice. The Issues and Decision Memorandum is a public document and is on file in the Central Records Unit (CRU), Room B8024 of the main Department of Commerce building, as well as electronically via Enforcement and Compliance's Antidumping and Countervailing Duty Centralized Electronic Service System (ACCESS). ACCESS is available to registered users at http://access.trade.gov and in the CRU. In addition, a complete version of the Issues and Decision Memorandum can be accessed directly on the internet at http://enforcement.trade.gov/frn/index.html. The signed Issues and Decision Memorandum and the electronic version of the Issues and Decision Memorandum are identical in content.

Final Determination of No Shipments

Commerce preliminarily found that Fedmet, Fengchi Imp. and Exp. Co., Ltd. of Haicheng City, Fengchi Mining Co., Ltd. of Haicheng City, and Fengchi Refractories Co., of Haicheng City (collectively, Fengchi), and RHI Refractories Liaoning Co., Ltd. (RHI) had no reviewable entries, shipments, or sales of the subject merchandise to the United States during the POR.⁶ After the Preliminary Results, with respect to Fengchi and RHI, no party commented on our preliminary no shipments finding, nor has any party submitted record evidence which would call this finding into question. Therefore, for the final results, we continue to find that Fengchi and RHI had no shipments of subject merchandise during the POR. With respect to Fedmet, we placed entry packages obtained from Customs and Border Protection (CBP) on the record of this review, and interested parties submitted comments on this information.⁷ As discussed in the Issues and Decision Memorandum, we continue to find that Fedmet also did not have any reviewable entries, shipments, or sales of subject merchandise to the United States during the POR.⁸ Consistent with our practice, we will issue appropriate instructions to U.S. Customs and Border Protection (CBP) based on our final results.

⁶ See Preliminary Results at “Preliminary Determination of No Shipments.”

⁷ See Memo to the File, “Placement of U.S. Customs and Border Protection (CBP) Entry Summary Packages Regarding Fedmet Resources Corporation on the Record of the Administrative Review,” dated December 4, 2018 (CBP Entry Package Memo); the petitioners' December 14, 2018 submission; Fedmet's December 14, 2018 submission.

⁸ See Issues and Decision Memorandum.

Assessment Rates

We have not calculated any assessment rates in this administrative review. Pursuant to Commerce's assessment practice, because we have determined that Fedmet, Fengchi, and RHI had no reviewable entries, shipments, or sales of the subject merchandise to the United States during the POR, any suspended entries that entered under their case numbers (i.e., at that exporter's rate) will be liquidated at the China-wide entity rate.⁹ We will instruct CBP to liquidate entries from the China-wide entity at the current rate for the China-wide entity (i.e., 236.00 percent). Commerce intends to issue appropriate assessment instructions to CBP 15 days after the publication date of the final results of this administrative review.

⁹ See Non-Market Economy Antidumping Proceedings: Assessment of Antidumping Duties, 76 FR 65694 (October 24, 2011).

Cash Deposit Requirements

The following cash deposit requirements will be effective upon publication of the final results of this administrative review for shipments of the subject merchandise from China entered, or withdrawn from warehouse, for consumption on or after the publication date of this notice, as provided by section 751(a)(2)(C) of the Act: (1) For previously investigated or reviewed Chinese and non-Chinese exporters that received a separate rate in a prior segment of this proceeding, the cash deposit rate will continue to be the existing exporter-specific rate published for the most recently completed period; (2) for all Chinese exporters of subject merchandise that have not been found to be entitled to a separate rate, the cash deposit rate will be the rate previously established for the China-wide entity (i.e., 236.00 percent); and (3) for all non-Chinese exporters of subject merchandise which have not received their own rate, the cash deposit rate will be the rate applicable to the Chinese exporter that supplied that non-Chinese exporter. These deposit requirements, when imposed, shall remain in effect until further notice.

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Orders

This notice also serves as the only reminder to parties subject to administrative protective order (APO) of their responsibility concerning the return or destruction of proprietary information disclosed under APO in accordance with 19 CFR 351.305(a)(3). Timely written notification of the return or destruction of APO materials or conversion to judicial protective order is hereby requested. Failure to comply with the regulations and terms of an APO is a violation subject to sanction. We are issuing and publishing this notice in accordance with sections 751(a)(1) and 777(1) of the Tariff Act of 1930, as amended, and 19 CFR 351.213(d)(4).

Dated: May 7, 2019.
Jeffrey I. Kessler,
Assistant Secretary for Enforcement and Compliance.

Appendix

List of Topics Discussed in the Final Decision Memorandum

I. Summary

II. Background

III. Scope of the Order

IV. Discussion of the Issue

V. Discussion of the Issue: Treatment of Fedmet

VI. Recommendation

[FR Doc. 2019-09785 Filed 5-10-19; 8:45 am]

BILLING CODE 3510-DS-P